DEPARTMENT OF DEFENSE

Department of the Army

Availability for Non-Exclusive, Exclusive, or Partially Exclusive Licensing of U.S. Patent Application Concerning Diagnosis of Exposure to Toxic Agents by Measuring Distinct Patterns in the Levels of Specific Genes

AGENCY: Department of the Army, DoD.

ACTION: Notice.

SUMMARY: In accordance with 37 CFR 404.6, announcement is made of the availability for licensing of U.S. Patent Application No. 09/876,249 entitled “Diagnosis of Exposure to Toxic Agents by Measuring Distinct Patterns in the Levels of Specific Genes” filed June 7, 2001. Foreign rights are also available (PCT/US00/02756). The United States Government as represented by the Secretary of the Army has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The present invention relates to a novel method of diagnosing the exposure to toxic agents based on relative ratios or changes in levels of the genes/proteins in mammalian tissue or body fluids from normal levels. The present invention further relates to compositions and uses thereof for treating lethal shock induced by toxic agents.

Luz D. Ortiz,
Army Federal Register Liaison Officer.

[FR Doc. 02-5900 Filed 3-11-02; 8:45 am]

BILLING CODE 3710-08-M